DEPARTMENT OF JUSTICE

Antitrust Division

Notice Pursuant to the National Cooperative Research and Production Act of 1993—Telemanagement Forum

Notice is hereby given that, on July 24, 2002, pursuant to Section 6(a) of the National Cooperative Research and Production Act of 1993, 15 U.S.C. 4301 et seq. (“the Act”), Telemanagement Forum (“the Forum”) has filed written notifications simultaneously with the Attorney General and the Federal Trade Commission disclosing changes in its membership status. The notifications were filed for the purpose of extending the Act's provisions limiting the recovery of antitrust plaintiffs to actual damages under specified circumstances. Specifically, ENA, Inc., Alpharetta, GA; HighDeal, Inc., Redwood Shores, CA; CTS (CRIL Telecom Software), Boulogn-Billancourt, France; Croatian Telecom-HT, Zagreb, Croatia; NE Technologies, Inc., Norcross, GA; CG-Consulting Group CmbH, Frankfurt, Germany; Portugal Telecom Inovacao, SA, Averio, Portugal; TeleGea, Inc., Waltham, MA; ip value GmbH, Frankfurt, Germany; Cape Technologies, Dublin Ireland; Staffware, Maidenhead, United Kingdom; ORMvision, Lochristi, Belgium; T-Soft, Herzlia, Israel; Oscar Rene Galindo Zambrano (Individual member), Bogota, Columbia; Claudia Liliana Bucheli Enriques (individual member), Bogota, Columbia; Paul Short Consulting, Huddinge, Sweden; Convergineering LLC, Fair Haven, NJ; Hatteras Networks, Research Triangle Park, NC; Taral Networks, Inc., Kanata, Ontario, Canada; Fiberhome Software, Wuhan, People's Republic of China; TBoothe Communications, San Jose, CA; Vibrant Solutions, Fairfax, VA; Evolved Networks, Ipswich, United Kingdom; Proforma Corporation, Southfield, MI; InfoVista S.A., Courtaboeuf Cedex, France; mm02, Slough, United Kingdom; Cogent Defense & Security Networks, Gwent, United Kingdom; Leapstone Systems, Inc., Somerset, NJ; Intech Taiwan Corporation, Hsinchu, Taiwan; Mycom International, Inc., Wimbley, United Kingdom; China Telecom System Integration Co. Ltd., Beijing, People's Republic of China; Joule Software, Inc., Austin, TX; Ahaluna, Rome, Italy; Mandarin Associates, Ltd., Needham Market, United Kingdom; and Antel, Montevideo, Uraguay have been added as parties to this venture. The following existing members have changed their names: Laboratory for Telecommunications is now called Laboratory for Telecommunications-Faculty of Electrical Engineering, Ljubljana, Slovenia; Czech Telecom is now called CESKY Telecom, a.s.-ImagiNet, o.z., Prague, Czech Republic; Sigma Exallon Systems is now called Sigma Systems, Toronto, Ontario, Canada; Four Corners Telecommunications Corporation is now called 4C Telecom, Overland Park, KS; Loox Software is now called Engenuity Technologies, Montreal, Quebec, Canada; Intelligent Communications Software is now called ICS Intelligent Communication Software, Munich, Germany; Clear Communications Corp. is now called Clear, Bethlehem, PA; PriceWaterhouseCooper is now called PWC Consulting, London, United Kingdom; Edgeflow Inc. is now called Meriton Networks Inc., Kanata, Ontario, Canada; Information & Graphic Systems, Inc. is now called IGS, Inc., Boulder, CO; TYCOM, Ltd. is now called Tyco Telecommunications, Eatontown, NJ; Alcatel Telecom Limited is now called Alcatel, Paris, France; Telefonica Investigation y Desarrollo is now called Telefonica I + D, Madrid, Spain; KT ICOM is now called KTICOM, Seoul, Republic of Korea; BT is now called BTexact Technologies, Ipswich, United Kingdom; GE Smallworld is now called GE Network Solutions, Cambridge, United Kingdom; Integris is now called Steria, Langen, United Kingdom; Ericsson Billing Software AB is now called Ericsson AB, Karlstad, Sweden; Telecom Italia Lab-CSELT is now called Telecom Italia Group, Turin, Italy; Telia Network Services is now called Telia, Farsta, Sweden; and VPI Virtual Photonics is now called VPIsystems, Inc., Munich, Germany. The following parties have reinstated their memberships: ITTI—Institute of Communication and Information Technologies, Poznan, Poland; and Mobistar, Brussels, Belgium. The following members have cancelled or have had their memberships cancelled: Atlantech, Cumberland, United Kingdom; Axarte, Newbury, United Kingdom; Calico Commerce, San Jose, CA; Emperative, Waltham, MA; Escosoft, New Delhi, India; Idea.com, Newark, CA; Mannesman, Dusseldorf, Germany; Mformation, Edison, NJ; MTN RSA, Sandton, South Africa; OJSC, Almaty, Kazakhstan; Open Networks Engineering, Ann Arbor, MI; Quick Eagle Networks, Sunnyvale, CA; Venimex Inc., Altanta, GA; Airfiber, San Diego, CA; Teledesic, Bellevue, WA; Advanced Network Solutions SpA, Vimodrone, Italy; Aptis Software, San Antonio, TX; Astral Point, Chelmsford, MA; Broadwing, Austin, TX; Cedere, Tyngsboro, MA; Dynegy Inc., Chicago, IL; General Bandwidth, Austin, TX; Protek, Maidenhead, Berkshire, United Kingdom; Telrad Networks, Rosh Ha'ayin, Israel; TRW, Redondo Beach, CA; Viryanet, Carrolton, TX; XO Communications, Inc., Reston, VA; Ennovate Networks, Boxboro, MA; Inteoptical Inc., Saratoga, CA; Traian Internet Products AG, Bonn, Germany; QiTEL AB, Uppsala, Sweden; Intelliobjects, Inc., Columbia, MD; Narus Inc., Palo Alto, CA; Syndesis Limited, Richmond Hill, Ontario, Canada; Computer Associates, Framingham, MA; Unisys Corporation, Blue Bell, PA; Ipsaris, Chertsey, United Kingdom; El Paso Global Networks, Houston, TX; NetNumber, Lowell, MA; Sycamore Networks, Chelmsford, MA; Alltel Information Services, Alpharetta, GA; KDDI Corporation, Tokyo, Japan; Royal Dutch KPN NV, The Hague, The Netherlands; Novell Inc., Boca Raton, FL; Hitachi Telecom, Norcross, GA; TCSI, New Market, Suffolk, United Kingdom; AFN Communications, Tulsa, OK; Altion Limited, Dublin, Ireland; ASG Technologies, Fredericton, New Brunswick, Canada; Callisma, White Plains, NY; Cell Telecom, Stockholm, Sweden; CSG International Ltd., Slough, United Kingdom; Cygent, Inc., San Francisco, CA; Enition S.A., Issy-Les-Moulineaux Cedex, France; EXA Corporation, Kawasaki, Japan; Info Objects Inc., San Jose, CA; Interlink Networks, Ann Arbor, MI; Maple Optical Systems, San Jose, CA; Mediation Technology, Calgary, Alberta, Canada; Minacom International, Montreal, Quebec, Canada; Monofox, LLC, Alpharetta, GA; Native Networks, Petah Tikva, Israel; NCC Group, Manchester, United Kingdom; NetHawk Solutions, Oulu, Finland; One Line, Barleben, Germany; ONI Systems, San Jose, CA; Qcom, Marlboro, NJ; Seneca Networks, Rockville, NC; Spazio ZeroUno SpA, Vimodrone, Italy; Star Home Limited, Tel Aviv, Israel; Step 9 Software Corporation, Fairfax, VA; Stonehouse Technologies, Plano, TX; Telecom Management Consulting Group, New York, NY; Tele-Worx, Garland, TX; TelOptica, Richardson, TX; Telution, Chicago, IL; Telynx, Reston, VA; T-Soft, Herzlia, Israel; Varros Telecom LLC, Sunnyvale, CA; Velankani, Somerset, NJ; WFI Network Management Services Corp., Charlotte, NC; Yotta Networks, Plano, TX; Zaffire, Inc., San Jose, CA; Cohen Communications New York, NY; Crescendo Ventures, Palo Alto, CA; Guidecom Systems, Chantilly, VA; IIR, London, United Kingdom; Kanazia Digital Systems Private Limited, Mumbai, India; Logical Solutions AG, Zurich, Switzerland; State of California, Sacramento, CA; Technology Research institute, Sudbury, MA; Tele-Consulting GMBH, Diessen, Germany; University College of London, Bath, United Kingdom; XDL Intervest Capital Corporation, Toronto, Ontario, Canada; EMIS-Emerging Information Systems, Inc., Morrisville, NC; Ingenium Systems, Ennis, Ireland; and Passport Corporation, Paramus, NJ.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on December 3, 2001. A notice was published in the Federal Register pursuant to Section 6(b) of the Act on March 8, 2002 (67 FR 10762).

Constance K. Robinson,
Director of Operations, Antitrust Division.

[FR Doc. 02-23703 Filed 9-17-02; 8:45 am]

BILLING CODE 4410-11-M